EXPORT-IMPORT BANK

[Public Notice: 2018-1060]

Agency Information Collection Activities: Final Collection; Comment Request

AGENCY: Export-Import Bank of the United States.

ACTION: Submission for OMB review and comments request.

SUMMARY: The Export-Import Bank of the United States (EXIM), as a part of its continuing effort to reduce paperwork and respondent burden, invites the general public and other Federal Agencies to comment on the proposed information collection, as required by the Paperwork Reduction Act of 1995. The Multi-Buyer Policy: Reasonable Spread of Risk (RSOR) Exclusions Worksheet will be used by external customers, current policyholders and portfolio managers to determine eligibility of Export-Import Bank support under the RSOR Policy. Program changes that were made in 2017 have resulted in revitalized demand of the RSOR product in the marketplace. This form will be available on EXIM's website and will standardize the collection of required information into a user friendly format that can be submitted electronically via email or as an attachment to an EXIM Online application.

DATES: Comments should be received on or before July 30, 2018 to be assured of consideration.

ADDRESSES: Comments may be submitted electronically on WWW.REGULATIONS.GOV (EIB 18-01) or by email to Mia.Johnson@exim.gov, or by mail to Mia L. Johnson, Export-Import Bank of the United States, 811 Vermont Ave. NW, Washington, DC 20571.

The form can be viewed at: https://www.exim.gov/sites/default/files/pub/pending/eib18-01.pdf.

SUPPLEMENTARY INFORMATION:

Titles and Form Number: EIB18-01 Multi-Buyer Policy: Reasonable Spread of Risk (RSOR) Exclusions Worksheet.

OMB Number: XXXX-XXXX.

Type of Review: New.

Need and Use: The Multi-Buyer Policy: Reasonable Spread of Risk (RSOR) Exclusions Worksheet will be used by external customers, current policyholders and portfolio managers to determine eligibility of Export-Import Bank support under the Reasonable Spread of Risk Policy.

Affected Public: This form affects entities involved in the export of U.S. goods and services.

Annual Number of Respondents: 60.

Estimated Time per Respondent: 15 minutes.

Annual Burden Hours: 15 hours.

Frequency of Reporting or Use: As needed.

Government Expenses:

Reviewing Time per Year: 60 hours.

Average Wages per Hour: $42.50.

Average Cost per Year: $2,550 (time * wages).

Benefits and Overhead: 20%.

Total Government Cost: $3,060.

Bassam Doughman,
IT Specialist.

[FR Doc. 2018-11553 Filed 5-29-18; 8:45 am]

BILLING CODE 6690-01-P